DEPARTMENT OF JUSTICE

Antitrust Division

Notice Pursuant to The National Cooperative Research and Production Act of 1993; DVD Copy Control Association

Notice is hereby given that, on August 30, 2013, pursuant to Section 6(a) of the National Cooperative Research and Production Act of 1993, 15 U.S.C. 4301 et seq. (“the Act”), DVD Copy Control Association (“DVD CCA”) has filed written notifications simultaneously with the Attorney General and the Federal Trade Commission disclosing changes in its membership. The notifications were filed for the purpose of extending the Act's provisions limiting the recovery of antitrust plaintiffs to actual damages under specified circumstances. Specifically, AMZ Midia Industrial S/A, Barueri, BRAZIL; Crystal Ton 2 Ltd., Sofia, BULGARIA; CSR Technology Inc., Sunnyvale, CA; CyberLink Corporation, Shindian City, Taipei, TAIWAN; D&M Holdings Inc., Chuo-ku, Tokyo, JAPAN; Daesung Eltec Co., Ltd., Geumcheon-Gu, Seoul, REPUBLIC OF KOREA; Datapulse Technology Limited, Singapore, SINGAPORE; Dell Products, L.P., Round Rock, TX; Deluxe Digital Studios, Inc., Burbank, CA; Denso Corporation, Kariya, Aichi-ken, JAPAN; Diamondking Inc., Chino, CA; digiCon AG, Kornwestheim, GERMANY; Huawei Device Co., Ltd., Longgang District, Shenzhen, PEOPLE'S REPUBLIC OF CHINA; Korea Mikasa Corporation Co., Ltd., Kangham-ku, Seoul, REPUBLIC OF KOREA; Shenzhen Chuangwei Electronic Appliance Tech Co., Nanshan District, Shenzhen, PEOPLE'S REPUBLIC OF CHINA; Smart Electronics Manufacturing Service Philippine, Calamba City, Laguna, PHILIPPINES; SoJean International Co., Ltd., His-Chih City, Taipei Hsien, TAIWAN; and YuCha (Hong Kong) Electronics Co., Ltd., Tsuen Wan N.T., Hong Kong, HONG KONG-CHINA, have been added as parties to this venture.

Also, Action Electronics Co., Ltd., Chung Li, TAIWAN; and DAT H.K. Limited, Quarry Bay, Hong Kong, HONG KONG-CHINA, have withdrawn as parties to this venture.

No other changes have been made in either the membership or planned activity of the group research project. Membership in this group research project remains open, and DVD CCA intends to file additional written notifications disclosing all changes in membership.

On April 11, 2001, DVD CCA filed its original notification pursuant to Section 6(a) of the Act. The Department of Justice published a notice in the Federal Register pursuant to Section 6(b) of the Act on August 3, 2001 (66 FR 40727).

The last notification was filed with the Department on May 31, 2013. A notice was published in the Federal Registerpursuant to Section 6(b) of the Act on July 1, 2013 (78 FR 39327).

Patricia A. Brink,
Director of Civil Enforcement, Antitrust Division.

[FR Doc. 2013-25282 Filed 10-25-13; 8:45 am]

BILLING CODE P